DEPARTMENT OF TRANSPORTATION

Federal Aviation Administration

14 CFR Part 39

[Docket No. FAA-2014-0464; Directorate Identifier 2014-SW-002-AD; Amendment 39-18169; AD 2015-11-06]

RIN 2120-AA64

Airworthiness Directives; Airbus Helicopters (Previously Eurocopter France) Helicopters

AGENCY: Federal Aviation Administration (FAA), DOT.

ACTION: Final rule.

SUMMARY: We are superseding Airworthiness Directive (AD) 2013-18-01 for Eurocopter France Model EC 155B, EC155B1, SA-365N, SA-365N1, AS-365N2, AS 365 N3, and SA-366G1 helicopters. AD 2013-18-01 required inspecting the collective pitch lever for correct locking and unlocking conditions. As published, AD 2013-18-01 contained certain errors. This new AD retains the requirements of AD 2013-18-01, corrects the errors, and updates the type certificate holder's name. The actions in this AD are intended to detect an incorrectly adjusted collective pitch lever, which could result in loss of control of the helicopter.

DATES: This AD is effective July 13, 2015.

The Director of the Federal Register approved the incorporation by reference of certain publications listed in this AD as of October 18, 2013 (78 FR 56599, September 13, 2013).

ADDRESSES: For service information identified in this AD, contact Airbus Helicopters, Inc., 2701 N. Forum Drive, Grand Prairie, Texas 75052; telephone (972) 641-0000 or (800) 232-0323; fax (972) 641-3775; or at http://www.airbushelicopters.com/techpub. You may view this referenced service information at the FAA, Office of the Regional Counsel, Southwest Region, 2601 Meacham Blvd., Room 663, Fort Worth, Texas 76137. It is also available on the Internet at http://www.regulations.gov in Docket No. FAA-2014-0464.

Examining the AD Docket

You may examine the AD docket on the Internet at http://www.regulations.gov by searching for and locating Docket No. FAA-2014-0464; or in person at the Docket Management Facility between 9 a.m. and 5 p.m., Monday through Friday, except Federal holidays. The AD docket contains this AD, the European Aviation Safety Agency (EASA) AD, any incorporated-by-reference information, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Discussion

We issued a notice of proposed rulemaking (NPRM) to amend 14 CFR part 39 to remove AD 2013-18-01, Amendment 39-17574 (78 FR 56599, September, 13, 2013) and add a new AD. AD 2013-18-01 applied to Eurocopter France Model EC 155B, EC155B1, SA-365N, SA-365N1, AS-365N2, AS 365 N3, and SA-366G1 helicopters, except helicopters with modification (MOD) 0767B5 installed. AD 2013-18-01 required inspecting the collective pitch lever for correct unlocking with a spring scale, and if required, adjusting the collective pitch lever restraining tab and, for certain models, adjusting the collective link rods. AD 2013-18-01 also required inspecting the collective pitch lever for the risk of inadvertent locking by measuring the clearance between the locking pin of the collective pitch lever and the L-section of the restraining tab, and if required, modifying the tab with a slight bend to the tab. As published, the AD number after the amendatory language section of AD 2013-18-01 is incorrect. The AD number was published as “2013-18-11.” The MOD number in paragraph (a), Applicability, of the AD is also incorrect. The correct MOD number is 0767B65. Also, since we issued AD 2013-18-01, the type certificate holder's name for the affected models changed from Eurocopter France to Airbus Helicopters.

AD 2013-18-01 was prompted by AD No. 2011-0154, dated August 22, 2011, issued by EASA, which is the Technical Agent for the Member States of the European Union, to correct an unsafe condition for Eurocopter Model EC 155B, EC155B1, SA-365N, SA-365N1, AS-365N2, AS 365 N3, and SA-366G1 helicopters. EASA advises of two occurrences of inadvertent locking and unlocking of the collective pitch lever. One inadvertent collective pitch lever locking occurred when moving the collective pitch lever to the low-pitch position, and one inadvertent collective pitch lever unlocking occurred during engine start. To address this unsafe condition, EASA AD No. 2011-0154 requires inspecting the collective pitch lever for correct locking and unlocking conditions, except for those helicopters with a hinged, spring-loaded collective lever locking blade installed, designated as MOD 0767B65.

The NPRM published in the Federal Register on July 16, 2014 (79 FR 41466). The NPRM proposed to continue to require all of the inspection and adjustment requirements of AD 2013-18-01. The NPRM also proposed to correct the MOD number in paragraph (a) and reflect the current type certificate holder's name and contact information. Removing AD 2013-18-01 and issuing a new AD would also remove the incorrect AD number after the amendatory language. The NPRM proposed no other changes to other parts of the regulatory information.

Comments

We gave the public the opportunity to participate in developing this AD, but we did not receive any comments on the NPRM (79 FR 41466, July 16, 2014).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Related Service Information Under 1 CFR Part 51

We reviewed Eurocopter (now Airbus Helicopters) Alert Service Bulletin (ASB) No. 67.00.10 for Model AS365 helicopters, ASB No. 67.05 for Model SA366 helicopters, and ASB No. 67A007 for Model EC155 helicopters. All three ASBs are Revision 1 and are dated February 25, 2009. These ASBs describe procedures for inspecting and adjusting the collective pitch lever for correct locking and unlocking conditions. This service information is reasonably available because the interested parties have access to it through their normal course of business or by the means identified in the ADDRESSES section of this AD.

Other Related Service Information

Eurocopter also issued ASB No. 67.00.12, Revision 0, dated February 25, 2009, for Model AS365 helicopters; ASB No. 67.07, Revision 0, dated February 25, 2009, for Model AS366 helicopters; and ASB No. 67-009, Revision 1, dated July 19, 2010, for Model EC 155 helicopters. These ASBs contain the procedures for MOD 0767B65.

Costs of Compliance

We estimate that this AD will affect 32 helicopters of U.S. Registry. We estimate that operators may incur the following costs in order to comply with this AD. Inspecting and adjusting the collective pitch lever requires about 1 work-hour at an average labor rate of $85 per work-hour, for a total cost per helicopter of $85 and a cost to U.S. operators of $2,720.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-18-01, Amendment 39-17574 (78 FR 56599, September 13, 2013), and adding the following new AD:

2015-11-06 Airbus Helicopters (Previously Eurocopter France): Amendment 39-18169; Docket No. FAA-2014-0464; Directorate Identifier 2014-SW-002-AD.

(a) Applicability

This AD applies to Model EC 155B, EC155B1, SA-365N, SA-365N1, AS-365N2, AS 365 N3, and SA-366G1 helicopters, except helicopters with modification (MOD) 0767B65 installed, certificated in any category.

(b) Unsafe Condition

This AD defines the unsafe condition as inadvertent locking and unlocking of the collective pitch lever, which could result in subsequent loss of control of the helicopter.

(c) Affected ADs

This AD supersedes AD 2013-18-01, Amendment 39-17574 (78 FR 56599, September 13, 2013).

(d) Effective Date

This AD becomes effective July 13, 2015.

(e) Compliance

You are responsible for performing each action required by this AD within the specified compliance time unless it has already been accomplished prior to that time.

(f) Required Actions

Within 50 hours time-in-service:

(1) For Model EC 155B and EC155B1 helicopters:

(i) Lock the collective pitch lever, and using a spring scale, measure the load (G) required to unlock the pilot's collective pitch lever as depicted in Figure 1, Detail B of Eurocopter Alert Service Bulletin (ASB) No. 67A007, Revision 1, dated February 25, 2009 (ASB 67A007).

(ii) If the collective pitch lever unlocks at a load less than 11 deca Newtons (daN) (24.7 lbs) or greater than 14 daN (31.5 lbs), before further flight, adjust the collective pitch lever restraining tab (F) using the oblong holes.

(iii) Set the collective pitch lever to the “low pitch” position and hold it in this position, without forcing it downwards.

(iv) Measure the clearance (J1) between the locking pin of the collective pitch lever (C) and the L-section of the restraining tab (F) as depicted in Figure 1, Detail A of ASB 67A007.

(v) If the clearance between the locking pin of the collective pitch lever and the L-section of the restraining tab is less than 3 millimeters (mm), before further flight, remove the restraining tab, clamp the restraining tab (F) in a vice with soft jaws, and gradually apply a load (H) to ensure a clearance of 3 mm or more, as depicted in Figure 1, Detail K of ASB 67A007.

(2) For Model SA-365N, SA-365N1, AS-365N2, and AS 365 N3 helicopters:

(i) Completely loosen the friction, lock the collective pitch lever, and using a spring scale, measure the load (G) required to unlock the pilot's collective pitch lever as depicted in Figure 1, Detail B of Eurocopter ASB No. 67.00.10, Revision 1, dated February 25, 2009 (ASB 67.00.10).

(ii) If the collective pitch lever unlocks at a load less than 5 daN (11.3 lbs) or greater than 14 daN (31.5 lbs), before further flight, adjust the collective pitch lever restraining tab (F) using the oblong holes and adjust the collective link rods as described in the Accomplishment Instructions, paragraph 2.B.4., of ASB 67.00.10.

(iii) Set the collective pitch lever to the “low pitch” position and hold it in this position, without forcing it downwards.

(iv) Tighten the friction lock and measure the clearance (J1) between the locking pin of the collective pitch lever (C) and the L-section of the restraining tab (F) as depicted in Figure 1, Detail A of ASB 67.00.10.

(v) If the clearance between the locking pin of the collective pitch lever and the L-section of the restraining tab is less than 3 mm, before further flight, remove the restraining tab, clamp the restraining tab (F) in a vice with soft jaws, and gradually apply a load (H) to ensure a clearance of 3 mm or more, as depicted in Figure 1, Detail K, of ASB 67.00.10.

(3) For Model SA-366G1 helicopters:

(i) Completely loosen the friction, lock the collective pitch lever, and using a spring scale, measure the load (G) required to unlock the pilot's collective pitch lever as depicted in Figure 1, Detail B of Eurocopter ASB No. 67.05, Revision 1, dated February 25, 2009 (ASB 67.05).

(ii) If the collective pitch lever unlocks at a load less than 5 daN (11.3 lbs) or greater than 14 daN (31.5 lbs), before further flight, adjust the collective pitch lever restraining tab (F) using the oblong holes and adjust the collective link rods as described in the Accomplishment Instructions, paragraph 2.B.4., of ASB 67.05.

(iii) Set the collective pitch lever to the “low pitch” position and hold it in this position, without forcing it downwards.

(iv) Tighten the friction lock and measure the clearance (J1) between the locking pin of the collective pitch lever (C) and the L-section of the restraining tab (F) as depicted in Figure 1, Detail A, of ASB 67.05.

(v) If the clearance between the locking pin of the collective pitch lever and the L-section of the restraining tab is less than 3 mm, before further flight, remove the restraining tab, clamp the restraining tab (F) in a vice with soft jaws, and gradually apply a load (H) to ensure a clearance of 3 mm or more, as depicted in Figure 1, Detail K, of ASB 67.05.

(g) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Alert Service Bulletin (ASB) No. 67.00.12, Revision 0, dated February 25, 2009; ASB No. 67.07, Revision 0, dated February 25, 2009; and ASB No. 67-009, Revision 1, dated July 19, 2010, which are not incorporated by reference, contain additional information about this AD. For service information identified in this AD, contact Airbus Helicopters, Inc., 2701 N. Forum Drive, Grand Prairie, Texas 75052; telephone (972) 641-0000 or (800) 232-0323; fax (972) 641-3775; or at http://www.airbushelicopters.com/techpub. You may review a copy of the service information at the FAA, Office of the Regional Counsel, Southwest Region, 2601 Meacham Blvd., Room 663, Fort Worth, Texas 76137.

(2) The subject of this AD is addressed in European Aviation Safety Agency (EASA) AD No. 2011-0154, dated August 22, 2011. You may view the EASA AD on the Internet at http://www.regulations.gov in Docket No. FAA-2014-0464.

(i) Subject

Joint Aircraft Service Component (JASC) Code: 6710, Main Rotor Control.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on October 18, 2013, (78 FR 56599, September 13, 2013).

(i) Eurocopter Alert Service Bulletin No. 67.00.10, Revision 1, dated February 25, 2009.

(ii) Eurocopter Alert Service Bulletin No. 67.05, Revision 1, dated February 25, 2009.

(iii) Eurocopter Alert Service Bulletin No. 67A007, Revision 1, dated February 25, 2009.

(4) For Eurocopter service information identified in this AD, contact Airbus Helicopters, Inc., 2701 N. Forum Drive, Grand Prairie, Texas 75052; telephone (972) 641-0000 or (800) 232-0323; fax (972) 641-3775; or at http://www.airbushelicopters.com/techpub.

(5) You may view this service information at FAA, Office of the Regional Counsel, Southwest Region, 2601 Meacham Blvd., Room 663, Fort Worth, Texas 76137. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on May 26, 2015.
Lance T. Gant,
Acting Directorate Manager, Rotorcraft Directorate, Aircraft Certification Service.

[FR Doc. 2015-13355 Filed 6-5-15; 8:45 am]

BILLING CODE 4910-13-P